NUCLEAR REGULATORY COMMISSION

[Docket No. 72-25]

Notice of Issuance of Materials License SNM-2512 for the Idaho Spent Fuel Facility

AGENCY: Nuclear Regulatory Commission.

ACTION: Issuance of Materials License.

FOR FURTHER INFORMATION CONTACT: James R. Hall, Senior Project Manager, Spent Fuel Project Office, Office of Nuclear Material Safety and Safeguards, U.S. Nuclear Regulatory Commission, Washington, DC 20555. Telephone: (301) 415-1336; fax number: (301) 415-8555; e-mail: jrh@nrc.gov.

SUPPLEMENTARY INFORMATION: The U.S. Nuclear Regulatory Commission (NRC or the Commission) has issued Materials License No. SNM-2512 to the Foster Wheeler Environmental Corporation (FWENC) for the receipt, possession, storage, and transfer of spent fuel at the Idaho Spent Fuel (ISF) Facility, an independent spent fuel storage installation (ISFSI) to be located at the Idaho National Engineering and Environmental Laboratory (INEEL), located in Butte County, Idaho. This Materials License is issued under the provisions of Title 10 of the Code of Federal Regulations, Part 72 (10 CFR Part 72), and is effective as of the date of issuance. A license for an ISFSI under 10 CFR Part 72 is issued for 20 years, but the licensee may seek to renew the license prior to its expiration.

The ISF Facility is licensed to provide interim dry storage for approximately 22 metric tons of heavy metal contained in unique fuel elements and associated radioactive materials resulting from the operation of the Peach Bottom Unit 1 high-temperature gas reactor, the Shippingport light water breeder reactor, and various Training, Research, and Isotope reactors built by General Atomics (TRIGA reactors). The ISF Facility is designed for the repackaging of specific quantities of this spent nuclear fuel, currently stored by the U.S. Department of Energy (DOE) at the INEEL, into new storage canisters, followed by its placement into an interim dry storage vault, in preparation for eventual shipment to a high-level waste geologic repository. The ISF Facility represents one element of a Settlement Agreement, dated October 17, 1995, among the DOE, the U.S. Navy, and the State of Idaho, regarding waste removal and environmental cleanup at the INEEL.

Following receipt of FWENC's application dated November 19, 2001, the NRC staff published a “Notice of Docketing, Notice of Consideration of Issuance, and Notice of Opportunity for a Hearing for a Materials License for the Idaho Spent Fuel Facility” in the Federal Register on June 27, 2002 (67 FR 43358). In conjunction with the issuance of this license, the staff published a final environmental impact statement (FEIS), “Environmental Impact Statement for the Proposed Idaho Spent Fuel Facility at the Idaho National Engineering and Environmental Laboratory in Butte County, Idaho,” (NUREG-1773, Final Report, January 2004). A Notice of Availability of the FEIS was published in the Federal Register on February 27, 2004 (69 FR 9387). The staff has determined that no significant environmental impacts will be generated as a result of construction and operation of the proposed ISF Facility.

The NRC staff has completed its environmental safeguards, and safety reviews of the Idaho Spent Fuel Facility license application and safety analysis report, as amended. The NRC staff issued Materials License No. SNM-2512 and its Safety Evaluation Report (SER) for the Idaho Spent Fuel Facility on November 30, 2004.

Further details with respect to this action are provided in the application dated November 19, 2001, as amended November 8, 2002, and March 28 and November 14, 2003; the staff's FEIS dated January 2004; Materials License SNM-2512 and the staff's SER, dated November 30, 2004; and other related documents, which are normally available in the records component of NRC's Agencywide Documents Access and Management System (ADAMS). The NRC maintains ADAMS, which provides text and image files of NRC's public documents. However, as of October 25, 2004, the NRC initiated an additional security review of publicly available documents to ensure that potentially sensitive information is removed from the ADAMS database accessible through the NRC's Web site. Interested members of the public should check the NRC's web pages for updates on the availability of documents through the ADAMS system. When public availability is restored, these documents may be accessed through the NRC's Public Electronic Reading Room on the Internet at: http://www.nrc.gov/reading-rm/adams.html. After resumption of public access to ADAMS, copies of the referenced documents will also be available for review at the NRC Public Document Room (PDR), located at 11555 Rockville Pike, Rockville, MD, 20852. PDR reference staff can be contacted at 1-800-397-4209, (301) 415-4737 or by e-mail to pdr@nrc.gov. The PDR reproduction contractor will copy documents for a fee.

Dated at Rockville, Maryland, this 30th day of November, 2004.
For the Nuclear Regulatory Commission.
James R. Hall,
Senior Project Manager, Licensing Section, Spent Fuel Project Office, Office of Nuclear Material Safety and Safeguards.

[FR Doc. 04-26903 Filed 12-7-04; 8:45 am]

BILLING CODE 7590-01-P